DEPARTMENT OF LABOR

Employment and Training Administration

[TA-W-65,834]

Boise Cascade, LLC, Elgin, OR; Notice of Termination of Investigation

Pursuant to Section 221 of the Trade Act of 1974, as amended, an investigation was initiated on April 20, 2009, in response to a petition filed by an Oregon One Stop Operator on behalf of the workers of Boise Cascade, LLC, Elgin, Oregon.

The petitioner requested that the petition be withdrawn. Consequently, the investigation has been terminated.

Signed at Washington, DC, this 7th day of May 2009.
Richard Church,
Certifying Officer, Division of Trade Adjustment Assistance.

[FR Doc. E9-13456 Filed 6-8-09; 8:45 am]

BILLING CODE 4510-FN-P